DEPARTMENT OF LABOR

Office of the Secretary

Agency Information Collection Activities; Comment Request; Workforce Recruitment Program (WRP)

AGENCY: Office of Disability Employment Policy (ODEP), United States Department of Labor (DOL).

ACTION: Notice of information collections and request for comments.

SUMMARY: In compliance with the Paperwork Reduction Act of 1995, the DOL is soliciting public comments regarding this ODEP-sponsored information collection to the Office of Management and Budget (OMB) for review and approval.

DATES: Comments pertaining to this information collection are due on or before April 11, 2023.

ADDRESSES:

Electronic submission: You may submit comments and attachments electronically at http://www.regulations.gov. Follow the online instructions for submitting comments.

Mail submission: 200 Constitution Ave. NW, Room S-5315, Washington, DC 2020.

Comments are invited on: (1) whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: David Rosenblum by telephone at 202-693-7840 (this is not a toll-free number) or by email at DOL_PRA_PUBLIC@dol.gov.

SUPPLEMENTARY INFORMATION: The WRP is a recruitment and referral program that connects students with disabilities to an opportunity for employment. Through participating colleges and universities, WRP creates a database for Federal and select private-sector employers nationwide to find highly motivated college students and recent graduates with disabilities who are eager to demonstrate their abilities in the workplace through summer or permanent jobs. Candidates represent all majors, and range from college freshmen to graduate students and law students. Information from these candidates is compiled in a searchable database that is available through this website to Federal Human Resources Specialists, Equal Employment Opportunity Specialists, and other Federal employees and hiring officials in Federal agencies.

Every year, WRP staff approach more than 300 colleges and universities to participate in the WRP recruitment process for the year. WRP School Coordinators at these schools conduct outreach to their eligible students and encourage them to apply to participate in the WRP. School Coordinators must be college staff and are usually from the career or disability services office. Candidates that are approved by the School Coordinators and completed the application by the deadline are given the opportunity to have an elective informational interview with a trained volunteer WRP Recruiter from a Federal agency.

To be eligible to register, candidates must be current, full-time, degree-seeking undergraduate or graduate students with a disability, or have graduated within two and a half years of the release of the database each December. Candidates must be U.S. citizens, must be attending or have graduated from a U.S. accredited college or university, and be eligible under the Schedule A Hiring Authority for persons with disabilities. Candidates must also be approved by a WRP School Coordinator to apply to WRP and participate in an interview.

Candidates are not interviewing for specific positions at specific agencies. They have the opportunity to have an elective informational interview with a Federal recruiter to learn about Federal service and discuss their career path. Candidates are not placed into jobs; they are simply applying to be part of a database of postsecondary students and recent graduates with disabilities that is made available to Federal employers directly and to the private sector through a contractor. Employers will then reach out to candidates directly if they are interested in interviewing or hiring them for a specific position. Candidates should be aware that WRP is not a guarantee of employment and not everyone who participates in WRP is contacted by employers.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-ODEP.

Type of Review: Revision of a currently approved collection.

Title of Collection: Workforce Recruitment Program (WRP).

OMB Control Number: 1230-0017.

Affected Public: Individuals and households.

Total Estimated Annual Number of Respondents: 2,500.

Frequency: Annually.

Total Estimated Annual Number of Responses: 2,500.

Total Estimated Annual Time Burden: 2,500 hours.

Total Estimated Annual Other Costs Burden: $0.

Estimated Hours of Burden to Participant Data Collection—Years 1-3
Study | Number of respondents | Hours/ esponse
Year 1 | 2,500 | 1
Year 2 | 2,500 | 1
Year 3 | 2,500 | 1
Three-year Total | 7,500 | 7,500
Three-year Average | 2,500 | 2,500

Authority: 44 U.S.C. 3506(c)(2)(A).

Taryn Williams,
Assistant Secretary, Office of Disability Employment Policy.

[FR Doc. 2023-02855 Filed 2-9-23; 8:45 am]

BILLING CODE 4510-FK-P